DEPARTMENT OF AGRICULTURE

Forest Service

Ash Creek Fire Salvage, Umpqua National Forest, Douglas County, OR

AGENCY: Forest Service, USDA.

ACTION: Cancellation notice.

SUMMARY: On March 20, 2003, a Notice of Intent (NOI) to prepare an environmental (EIS) for the Ash Creek Fire Salvage on the Tiller Ranger District of the Umpqua National Forest, was published in the Federal Register (68 FR 13666). Forest Service has decided to cancel the preparation of this EIS. The NOI is hereby rescinded.

FOR FURTHER INFORMATION CONTACT: Questions may be addressed to Alan Baumann, Timber Management Assistant, Tiller Ranger District, 27812 Tiller Trail Highway, Tiller, Oregon 97484, telephone: 541-825-3140.

Dated: November 18, 2003.
James A. Caplan,
Forest Supervisor.

[FR Doc. 03-29786 Filed 11-28-03; 8:45 am]

BILLING CODE 3410-11-M